DEPARTMENT OF ENERGY

Senior Executive Service; Performance Review Board

AGENCY: Department of Energy.

ACTION: Notice of Designation of Performance Review Board Chair.

SUMMARY: This notice provides the Performance Review Board Chair designee for the Department of Energy: James T. Campbell.

DATES: This appointment is effective as of September 30, 2004.

Issued in Washington, DC November 18, 2004.
Claudia A. Cross,
Chief Human Capital Officer/Director, Office of Human Capital Management.

[FR Doc. 04-26037 Filed 11-23-04; 8:45 am]

BILLING CODE 6450-01-P